ENVIRONMENTAL PROTECTION AGENCY

[FRL OP-OFA-033]

Environmental Impact Statements; Notice of Availability

Responsible Agency: Office of Federal Activities, General Information 202-564-5632 or https://www.epa.gov/nepa.

Weekly receipt of Environmental Impact Statements (EIS)

Filed August 22, 2022 10 a.m. EST Through August 29, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220121, Draft, USAF, AR, Beddown of a Foreign Military Sales Pilot Training Center at Ebbing Air National Guard Base, Arkansas or Selfridge Air National Guard Base, Michigan, Comment Period Ends: 10/17/2022, Contact: David Martin 210-925-2741.

EIS No. 20220122, Draft, CHSRA, CA, California High-Speed Rail Authority Palmdale to Burbank Project Section: Draft Environmental Impact Report/Environmental Impact Statement, Comment Period Ends: 11/01/2022, Contact: Scott Rothenberg 916-403-6936.

EIS No. 20220123, Final, NMFS, HI, Pacific Islands Aquaculture Management Program, Review Period Ends: 10/03/2022, Contact: Tori Spence McConell 808-725-5186.

EIS No. 20220124, Final, FERC, KY, Texas Gas Henderson County Expansion Project, Review Period Ends: 10/03/2022, Contact: Office of External affairs 866-208-3372.

EIS No. 20220125, Final Supplement, USN, AK, Gulf of Alaska Navy Training Activities, Review Period Ends: 10/03/2022, Contact: Jennifer Steele 360-396-1735.

EIS No. 20220126, Final, FERC, CA, Lower Klamath Project, Review Period Ends: 10/03/2022, Contact: Office of External Affairs 866-208-3372.

EIS No. 20220127, Final, UDOT, UT, Little Cottonwood Canyon Environmental Impact Statement; SR-210: Wasatch Boulevard to Alta, Review Period Ends: 10/17/2022, Contact: Josh Van Jura 801-231-8452.

EIS No. 20220128, Final, RUS, WI, Badger State Solar Project, Review Period Ends: 10/03/2022, Contact: Peter Steinour 202-692-5346.

EIS No. 20220129, Final Supplement, DHS, DC, ADOPTION—St. Elizabeth's Master Plan Amendment 2, Contact: Sarah Koeppel 202-868-2759.

The Department of Homeland Security (DHS) has adopted the General Service Administration's Final EIS No. 20200173, filed 8/20/2020 with the Environmental Protection Agency. The DHS was a cooperating agency on this project. Therefore, republication of the document is not necessary under Section 1506.3(b)(2) of the CEQ regulations.

EIS No. 20220130, Draft, BOEM, RI, Revolution Wind Farm and Revolution Wind Export Cable Project, Comment Period Ends: 10/17/2022, Contact: Trevis Olivier 504-736-5713.

EIS No. 20220131, Final, BIA, NM, Navajo Nation Integrated Weed Management Plan, Review Period Ends: 10/04/2022, Contact: Leonard Notah 508-863-8287.

Dated: August 29, 2022.
Cindy S. Barger,
Director, NEPA Compliance Division, Office of Federal Activities.

[FR Doc. 2022-19017 Filed 9-1-22; 8:45 am]

BILLING CODE 6560-50-P